DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of five individuals and one entity whose property and interests in property have been blocked pursuant to the Foreign Narcotics Kingpin Designation Act (Kingpin Act) (21 U.S.C. 1901-1908, 8 U.S.C. 1182). In addition, OFAC is updating the identifying information for one entity that was previously identified pursuant to the Kingpin Act.

DATES: The designation by the Director of OFAC of the five individuals and one entity identified and one update in this notice pursuant to section 805(b) of the Kingpin Act are effective on June 24, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On June 24, 2015, the Director of OFAC designated the following five individuals and one entity whose property and interests in property are blocked pursuant to section 805(b) of the Kingpin Act.

Individuals

1. CARTAGENA BENITEZ, Octavio (a.k.a. “DON GABRIEL”; a.k.a. “GABRIEL PARACO”); DOB 18 Oct 1956; POB Urrao, Antioquia, Colombia; Cedula No. 15481237 (Colombia) (individual) [SDNTK]. Designated for materially assisting in, or providing support for or to, or providing goods or services in support of, the international narcotics trafficking activities of LA OFICINA DE ENVIGADO and/or LOS URABENOS, and/or acting for or on behalf of LA OFICINA DE ENVIGADO and/or LOS URABENOS and therefore meets the statutory criteria for designation as a Specially Designated Narcotics Trafficker (SDNT) pursuant to sections 805(b)(2) and/or (3) of the Foreign Narcotics Kingpin Designation Act (Kingpin Act), 21 U.S.C. 1904(b)(2) and/or (3).

2. GALLON HENAO, Juan Santiago; DOB 26 May 1963; POB Medellin, Colombia; Cedula No. 79270771 (Colombia) (individual) [SDNTK]. Designated for materially assisting in, or providing support for or to, or providing goods or services in support of, the international narcotics trafficking activities of LA OFICINA DE ENVIGADO, and/or acting for or on behalf of LA OFICINA DE ENVIGADO and therefore meets the statutory criteria for designation as a Specially Designated Narcotics Trafficker (SDNT) pursuant to sections 805(b)(2) and/or (3) of the Foreign Narcotics Kingpin Designation Act (Kingpin Act), 21 U.S.C. 1904(b)(2) and/or (3).

3. GALLON HENAO, Pedro David; DOB 12 Aug 1970; POB Medellin, Colombia; Cedula No. 98551360 (Colombia) (individual) [SDNTK]. Designated for materially assisting in, or providing support for or to, or providing goods or services in support of, the international narcotics trafficking activities of LA OFICINA DE ENVIGADO, and/or acting for or on behalf of LA OFICINA DE ENVIGADO and therefore meets the statutory criteria for designation as a Specially Designated Narcotics Trafficker (SDNT) pursuant to sections 805(b)(2) and/or (3) of the Foreign Narcotics Kingpin Designation Act (Kingpin Act), 21 U.S.C. 1904(b)(2) and/or (3).

4. GIRALDO OCHOA, Hugo Humberto; DOB 03 Sep 1962; POB Envigado, Antioquia, Colombia; Cedula No. 70556353 (Colombia) (individual) [SDNTK]. Designated for materially assisting in, or providing support for or to, or providing goods or services in support of, the international narcotics trafficking activities of LA OFICINA DE ENVIGADO, and/or acting for or on behalf of LA OFICINA DE ENVIGADO and therefore meets the statutory criteria for designation as a Specially Designated Narcotics Trafficker (SDNT) pursuant to sections 805(b)(2) and/or (3) of the Foreign Narcotics Kingpin Designation Act (Kingpin Act), 21 U.S.C. 1904(b)(2) and/or (3).

5. OCHOA MESA, Reinaldo (a.k.a. “NATILLA”); DOB 10 May 1957; POB Envigado, Antioquia, Colombia; Cedula No. 70546722 (Colombia) (individual) [SDNTK] (Linked To: SEMILLANOS S.A.). Designated for materially assisting in, or providing support for or to, or providing goods or services in support of, the international narcotics trafficking activities of LA OFICINA DE ENVIGADO, and/or acting for or on behalf of LA OFICINA DE ENVIGADO and therefore meets the statutory criteria for designation as a Specially Designated Narcotics Trafficker (SDNT) pursuant to sections 805(b)(2) and/or (3) of the Foreign Narcotics Kingpin Designation Act (Kingpin Act), 21 U.S.C. 1904(b)(2) and/or (3).

Entity

1. SEMILLANOS S.A., Carrera 43 A 1 Sur 100 Of 1705, Medellin, Antioquia, Colombia; Hacienda El Cedro, Km 5 Via Rabolargo, Cerete, Cordoba, Colombia; NIT #811034178-0 (Colombia) [SDNTK]. Designated for being owned, controlled, or directed by, or acting for or on behalf of, LA OFICINA DE ENVIGADO and therefore meets the statutory criteria for designation as a Specially Designated Narcotics Trafficker (SDNT) pursuant to section 805(b)(3) of the Foreign Narcotics Kingpin Designation Act (Kingpin Act), 21 U.S.C. 1904(b)(3).

In addition, OFAC has made updates to the record for the following entity previously designated pursuant to the Kingpin Act:

LOS URABENOS (a.k.a. BANDA CRIMINAL DE URABA; a.k.a. LOS AUTODEFENSAS GAITANISTAS DE COLOMBIA), Colombia; Honduras; Panama [SDNTK].

The listing for this entity now appears as follows:

LOS URABENOS (Latin: LOS URABEÑOS) (a.k.a. BANDA CRIMINAL DE URABA; a.k.a. CLAN USUGA; a.k.a. LOS AUTODEFENSAS GAITANISTAS DE COLOMBIA), Colombia; Honduras; Panama [SDNTK].

Dated: June 24, 2015.
John E. Smith,
Acting Director, Office of Foreign Assets Control.

[FR Doc. 2015-15881 Filed 6-26-15; 8:45 am]

BILLING CODE 4811-AL-P